DEPARTMENT OF AGRICULTURE

Forest Service

Black Hills National Forest, Bearlodge Ranger District, WY and Northern Hills Ranger District, SD, North Zone Range 08 Analysis

AGENCY: Forest Service, USDA.

ACTION: Notice of intent to prepare an Environmental Impact Statement; cancellation.

SUMMARY: On November 5, 2007, the Federal Register published a Notice of Intent (NOI) to prepare an Environmental Impact Statement (EIS) for the North Zone Range 08 Analysis on the Black Hills National Forest (72 FR 62428-62429). The responsible officials for this analysis have decided that the preparation of an Environmental Impact Statement is not warranted for this project. An Environmental Assessment will be prepared for the North Zone Range 08 analysis. The responsible officials will document their rationale in a Finding of No Significant Impact (FONSI) to be subsequently prepared. The FONSI will accompany the Decision Notice for this project. The Notice of Intent is hereby cancelled.

FOR FURTHER INFORMATION CONTACT: Alice Allen, Environmental Coordinator, TEAMS Enterprise, Forest Service, 330 Mt. Rushmore Rd, Custer, SD 57730, or at 605-673-4853.

Dated: March 13, 2008.
Dennis Jaeger,
Deputy Forest Supervisor, Black Hills National Forest.

[FR Doc. E8-5611 Filed 3-20-08; 8:45 am]

BILLING CODE 3410-11-M